DEPARTMENT OF HOUSING AND URBAN DEVELOPMENT

[Docket No. FR-5831-N-20]

30-Day Notice of Proposed Information Collection: Family Unification Program

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: May 21, 2015.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street SW., Washington, DC 20410; email at Colette Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A.

The Federal Register notice that solicited public comment on the information collection for a period of 60 days was published on February 6, 2015 at 80 FR 6739.

A. Overview of Information Collection

Title of Information Collection: Family Unification Program.

OMB Approval Number: 2577-0259.

Type of Request: Extension of currently approved collection.

Form Numbers: HUD-52515; HUD-50058; HUD-2993; HUD- 96011; HUD-2990; HUD-2991; and HUD-2880; SF-424; SF-LLL.

Description of the need for the information and proposed use: The Family Unification Program (FUP) is a program, authorized under section 8(x) of the United States Housing Act of 1937 (42 U.S.C. 1437(X), that provides housing choice vouchers to PHAs to assist families for whom the lack of adequate housing is a primary factor in the imminent placement of the family's child or children in out-of-home care; or the delay in the discharge of the child, or children, to the family from out-of-home care. Youths at least 18 years old and not more than 21 years old (have not reached 22nd birthday) who left foster care at age 16 or older and who do not have adequate housing are also eligible to receive housing assistance under the FUP. As required by statute, a FUP voucher issued to such a youth may only be used to provide housing assistance for the youth for a maximum of 18 months. Vouchers awarded under FUP are administered by PHAs under HUD's regulations for the Housing Choice Voucher program (24 CFR part 982).

Respondents: Public Housing Agencies.

Description of information collection | Number of respondents | Frequency of response | Responses per annum | Burden hour per response | Annual burden hours | Hourly cost per response | Annual cost
SF424 (0348-0043) Application for Federal Assistance | 265 | Annual | 1 | 1 | 265 | $35.00 | $9,275
SF LLL (0348-0046) Lobbying Form | 10 | Annual | 1 | 1 | 10 | 35.00 | 350
HUD-96011 (2535-0118) 3rd Party Documentation Facsimile Transmittal | 265 | Annual | 1 | 1 | 265 | 35.00 | 9,275
HUD -2993 Acknowledgement of Application Receipt (2577-0259) | 13 | Annual | 1 | 1 | 13 | 35.00 | 455
Logic Model-HUD-96010 (2535-0114) | 265 | Annual | 1 | 1 | 0 | 35.00 | 0
PCWA Statement of Need (maximum of 5 pages) | 265 | Annual | 1 | 2 | 596 | 35.00 | 20,860
Memorandum of Understanding between PHA and PCWA | 265 | Annual | 1 | 6 | 1590 | 35.00 | 55,650
Rating Criteria 1: Area-Wide Housing Opportunities. Narratives (up to 20 pages). Logic Model (HUD-96010) | 265 | Annual | 1 | 3 | 795 | 35.00 | 27,825
Rating Criteria 2: PCWA Commitments. Narratives (up to 10 pages). Other Documentation | 265 | Annual | 1 | 1 | 331 | 35.00 | 11,585
Rating Criteria 3: Self-Sufficiency Programs. Narrative: (up to 6 pages) Documentation: Excerpt from Administrative Plan or policies manual for FSS program operations Certification: FUP recipients enrolled in FSS | 265 | Annual | 1 | 1 | 133 | 35.00 | 4,655
Rating Criteria 4: Local Coordination Letter of Support | 265 | Annual | 1 | 1 | 265 | 35.00 | 9,275
PCWA Contractor Documentation | 265 | Annual | 1 | 1 | 265 | 35.00 | 9,275
HUD2990, Certification of Consistency with the RC/EZ/EC-IIs Strategic Plan | 265 | Annual | 1 | 1 | 0 | 35.00 | 0
Funding Application HUD-52515 (2577-0169). Includes leasing schedule | 265 | Annual | 1 | 1 | 265 | 35.00 | 9,275
Affirmatively Furthering Fair Housing Statement (addendum) | 265 | Annual | 1 | 1 | 265 | 35.00 | 9,275
HUD2880, Applicant/Recipient Disclosure/Update Report (2510-0011) | 265 | Annual | 1 | 1 | 0 | 35.00 | 0
HUD2991, Certification of Consistency with the Consolidated Plan | 265 | Annual | 1 | 1 | 0 | 35.00 | 0
Subtotal (Application) | 265 | Annual | 1 | 25 | 5058 | 35 | 177,030
Family Report HUD-50058 (2577-0083) | 242 | Annual | 75 | 1 | 363 | 35.00 | 12,705
Baseline adjustment | 10 | Annual | 1 | 1 | 5 | 35.00 | 175
Program and Accounting Recordkeeping | 242 | Annual | 1 | 5 | 1210 | 35.00 | 42,350
Subtotal (Reporting/Recordkeeping) |  |  |  | 11 | 1578 | 35 | 55230
Total | 265 | Annual | 1 | 36 | 6636 | 35.00 | 232,260

Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: April 15, 2015.
Colette Pollard,
Department Reports Management Officer, Office of the Chief Information Officer.

[FR Doc. 2015-09256 Filed 4-20-15; 8:45 am]

BILLING CODE 4210-67-P